INTERNATIONAL TRADE COMMISSION

[Investigation No. 337-TA-909]

Certain Non-Volatile Memory Devices and Products Containing Same; Commission Determination Not To Review Granting Motion Terminating the Investigation as to all Respondents; Termination of the Investigation

AGENCY: U.S. International Trade Commission.

ACTION: Notice.

SUMMARY: Notice is hereby given that the U.S. International Trade Commission has determined not to review an initial determination (“ID”) (Order No. 23) of the presiding administrative law judge (“ALJ”) terminating the above-captioned investigation as to all respondents based on a settlement agreement.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 3, 2014, based on a complaint filed on behalf of Macronix International Co., Ltd. of Hsin-chu, Taiwan and Macronix America, Inc. of Milpitas, California. 79 FR 6227-28. The complaint, as amended, alleges violations of section 337 of the Tariff Act of 1930, as amended, 19 U.S.C. 1337, in the importation into the United States, the sale for importation, and the sale within the United States after importation of certain non-volatile memory devices and products containing the same by reason of infringement of certain claims of U.S. Patent Nos. 6,552,360; 6,100,557; and 6,002,630. The complaint further alleges a domestic industry exists or is in the process of being established. The Commission's notice of investigation, as amended, named the following respondents: Spansion, Inc., Spansion LLC, and Ruckus Wireless, Inc., all of Sunnyvale, California; Spansion (Thailand) Ltd. of Nonthaburi, Thailand; Tellabs Operations, Inc. and Tellabs North America, Inc., both of Naperville, Illinois (collectively, “the Tellabs respondents”); Beats Electronics LLC of Santa Monica, California; Delphi Automotive PLC of Kent, United Kingdom; Delphi Automotive Systems, LLC of Troy, Michigan; Harman International Industries, Inc. of Stamford, Connecticut; Harman Becker Automotive Systems, Inc. of Farmington Hills, Michigan; and Harman Becker Automotive Systems GmbH of Karlsbad, Germany. The Office of Unfair Import Investigations participated in the investigation.

On September 4, 2014, the Commission issued notice of its determination not to review the ALJ's ID (Order No. 15) terminating the investigation as to original respondent Tellabs, Inc. of Naperville, Illinois, and amending the complaint and notice of investigation to substitute the Tellabs respondents for Tellabs, Inc.

On January 29, 2015, complainants and all respondents jointly moved to terminate the investigation with respect to all respondents based on a settlement agreement. The Commission investigative attorney filed a response supporting the motion.

On January 30, 2015, the ALJ issued the subject ID (Order No. 23) granting the joint motion for termination of the investigation as to all respondents. He found that the motion satisfies Commission rules 210.21(a)(2), (b)(1). No party petitioned for review of the ID.

The Commission has determined not to review the subject ID, and has terminated the investigation.

The authority for the Commission's determination is contained in section 337 of the Tariff Act of 1930, as amended, 19 U.S.C. 1337, and in Part 210 of the Commission's Rules of Practice and Procedure, 19 CFR part 210.

By order of the Commission.
Issued: March 4, 2015.
Lisa R. Barton,
Secretary to the Commission.

[FR Doc. 2015-05424 Filed 3-6-15; 8:45 am]

BILLING CODE 7020-02-P